FEDERAL COMMUNICATIONS COMMISSION

47 CFR Part 73

[DA 04-610; MB Docket No. 03-35, RM-10646, 10713, 10714]

Radio Broadcasting Services; Florence, Greeleyville and Quinby, SC, Savannah, GA and Wedgefield, SC

AGENCY: Federal Communications Commission.

ACTION: Final rule.

SUMMARY: The document denies the Petition for Rule Making filed by SSR Communications Incorporated proposing the allotment of Channel 237A at Florence, South Carolina, as that community's second FM commercial service. See 68 FR 8728, published February 25, 2003. The document grants the counterproposal filed by Miller Communications, Inc. requesting the allotment of Channel 237A at Quinby, South Carolina, as the community's first local service, and the minor change application for Station WIBZ, Channel 238A, Wedgefield, South Carolina, BPH-20030331AAI. Channel 237A can be allotted to Quinby, South Carolina, consistent with the minimum distance separation requirements of the Commission's Rules, provided there is a site restriction 12.7 kilometers (7.9 miles) southeast of the community. The reference coordinates for Channel 237A at Quinby are 34-10-23 North Latitude and 79-37-11 West Longitude. The new coordinates for Station WIBZ, Channel 238A, Wedgefield, South Carolina are 33-54-16 North Latitude and 80-19-25 West Longitude. In addition, this document denies the counterproposal filed by Bulldog Broadcasting requesting the allotment of Channel 238C3 at Greeleyville, South Carolina, as its first local service, and proposing changes for Station WIBZ, Wedgefield, South Carolina and Station WIXV, Savannah, Georgia to accommodate the allotment at Greeleyville.

DATES: Effective April 26, 2004. A filing window for Channel 237A at Quinby, South Carolina will not be opened at this time. Instead, the issue of opening a filing window for this channel will be addressed by the Commission in a subsequent order.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket No. 03-35, adopted March 10, 2004, and released March 12, 2004. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under South Carolina, is amended by adding Quinby, Channel 237A.

Federal Communications Commission.
Peter H. Doyle,
Chief, Audio Division, Media Bureau.

[FR Doc. 04-7098 Filed 3-29-04; 8:45 am]

BILLING CODE 6712-01-P